DEPARTMENT OF HOMELAND SECURITY

Federal Emergency Management Agency

[Docket ID FEMA-2025-0002; Internal Agency Docket No. FEMA-B-2553]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before November 18, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2553, to David Bascom, Acting Director, Engineering and Modeling Division, Risk Analysis, Planning & Information Directorate, FEMA, 400 C Street SW, Washington, DC 20472, or (email) david.bascom@fema.dhs.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

Community | Community map repository address
Franklin County, Massachusetts (All Jurisdictions)
Project: 22-01-0006S Preliminary Date: May 22, 2024
City of Greenfield | City Hall, 14 Court Square, Greenfield, MA 01301.
Town of Ashfield | Town Hall, 412 Main Street, Ashfield, MA 01330.
Town of Bernardston | Town Hall, 38 Church Street, Bernardston, MA 01337.
Town of Buckland | Buckland Town Hall, 17 State Street, Shelburne Falls, MA 01370.
Town of Charlemont | Town Hall, 157 Main Street, Charlemont, MA 01339.
Town of Colrain | Town Hall, 55 Main Road, Colrain, MA 01340.
Town of Conway | Town Offices, 32 Main Street, Conway, MA 01341.
Town of Deerfield | Deerfield Municipal Offices, 8 Conway Street, South Deerfield, MA 01373.
Town of Erving | Town Hall, 12 East Main Street, Erving, MA 01344.
Town of Gill | Town Hall, 325 Main Road, Gill, MA 01354.
Town of Hawley | Town Office, 8 Pudding Hollow Road, Hawley, MA 01339.
Town of Heath | Jacobs Road Municipal Center, 18 Jacobs Road, Heath, MA 01346.
Town of Leverett | Town Hall, 9 Montague Road, Leverett, MA 01054.
Town of Leyden | Town Offices, 7 Brattleboro Road, Leyden, MA 01301.
Town of Monroe | Town Hall, 3C School Street, Monroe, MA 01350.
Town of Montague | Montague Town Hall, 1 Avenue A, Turners Falls, MA 01376.
Town of New Salem | Town Hall, 19 South Main Street, New Salem, MA 01355.
Town of Northfield | Town Hall, 69 Main Street, Northfield, MA 01360.
Town of Orange | Town Hall, 6 Prospect Street, Orange, MA 01364.
Town of Rowe | Town Hall, 321 Zoar Road, Rowe, MA 01367.
Town of Shelburne | Town Hall, 51 Bridge Street, Shelburne, MA 01370.
Town of Shutesbury | Town Hall, 1 Cooleyville Road, Shutesbury, MA 01072.
Town of Sunderland | Town Hall, 12 School Street, Sunderland, MA 01375.
Town of Warwick | Town Hall, 12 Athol Road, Warwick, MA 01378.
Town of Wendell | Town Offices, 9 Morse Village Road, Wendell, MA 01379.
Town of Whately | Town Offices, 4 Sandy Lane, Whately, MA 01373.
Sussex County, Virginia and Incorporated Areas
Project: 20-03-0025S Preliminary Date: January 15, 2025
Town of Stony Creek | Sussex County Administration Office, 20135 Princeton Road, Sussex, VA 23884.
Town of Wakefield | Town Hall, 200 West Main Street, Wakefield, VA 23888.
Town of Waverly | Town Hall, 119 Bank Street, Waverly, VA 23890.
Unincorporated Areas of Sussex County | Sussex County Administration Office, 20135 Princeton Road, Sussex, VA 23884.
Hillsdale County, Michigan (All Jurisdictions)
Project: 23-05-0016S Preliminary Date: March 07, 2024 and April 25, 2025
City of Hillsdale | City Hall, 97 North Broad Street, Hillsdale, MI 49242.
City of Litchfield | City Office, 221 Jonesville Street, Litchfield, MI 49252.
Township of Cambria | Cambria Township Hall, 7249 Cambria Road, Hillsdale, MI 49242.
Township of Hillsdale | Township Hall, 2985 West Bacon Road, Hillsdale, MI 49242.
Township of Jefferson | Jefferson Township Hall, 2837 Bird Lake Road South, Osseo, MI 49266.
Township of Litchfield | Township Hall, 9596 Homer Road, Litchfield, MI 49252.

[FR Doc. 2025-15880 Filed 8-19-25; 8:45 am]

BILLING CODE 9110-12-P